DEPARTMENT OF HEALTH AND HUMAN SERVICES

National Institutes of Health

Office of Biotechnology Activities, Office of Science Policy, Office of the Director; Notice of Closed Meeting

Pursuant to section 10(a) of the Federal Advisory Committee Act, as amended (5 U.S.C. Appendix 2), notice is hereby given of a meeting of the National Science Advisory Board for Biosecurity (NSABB).

Under authority 42 U.S.C. 217a, Section 222 of the Public Health Service Act, as amended, the Department of Health and Human Services established NSABB to provide advice, guidance and leadership regarding Federal oversight of dual-use research, defined as biological research with legitimate scientific purposes that could be misused to pose a biological threat to public health and/or national security.

The meeting will be closed to the public in accordance with provisions set forth in section 552b(c)(1), Title 5 U.S.C., as amended because matters sensitive to the interest of national security will be presented.

Name of Committee: National Science Advisory Board for Biosecurity.

Date: October 26, 2006.

Time: 12 p.m. to 5 p.m.

Agenda: Representatives from the Intelligence Community will present a classified session on the current counterterrorism and counterproliferation threats to the U.S.

Place: At a predetermined location in Virginia.

Contact Person: Laurie Lewallen, NSABB Program Assistant, NIH Office of Biotechnology Activities, 6705 Rockledge Drive, Bethesda, Maryland 20892, (301) 496-9838.

Dated: October 5, 2006.
Linda Payne,
Acting Director, Office of Federal Advisory Committee Policy.

[FR Doc. 06-8706 Filed 10-13-06; 8:45 am]

BILLING CODE 4140-01-M